SMALL BUSINESS ADMINISTRATION

[Disaster Declaration #15746 and #15747; NORTH CAROLINA Disaster Number NC-00100]

Presidential Declaration Amendment of a Major Disaster for Public Assistance Only for the State of North Carolina

AGENCY: U.S. Small Business Administration.

ACTION: Amendment 1.

SUMMARY: This is an amendment of the Presidential declaration of a major disaster for Public Assistance Only for the State of North Carolina (FEMA-4393-DR), dated 10/12/2018.

Incident: Hurricane Florence.

Incident Period: 09/07/2018 through 09/29/2018.

DATES: Issued on 10/12/2018.

Physical Loan Application Deadline Date: 12/11/2018.

Economic Injury (EIDL) Loan Application Deadline Date: 07/12/2019.

ADDRESSES: Submit completed loan applications to: U.S. Small Business Administration, Processing and Disbursement Center,

14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of North Carolina, dated 10/12/2018, is hereby amended to include the following areas as adversely affected by the disaster.

Primary Counties: Bertie, Davidson, Orange, Pitt

All other information in the original declaration remains unchanged.

(Catalog of Federal Domestic Assistance Number 59008)

James Rivera,
Associate Administrator for Disaster Assistance.

[FR Doc. 2018-23497 Filed 10-26-18; 8:45 am]

BILLING CODE 8025-01-P